DEPARTMENT OF LABOR

Office of the Secretary

Agency Information Collection Activities; Submission for OMB Review; Comment Request; Federal Contractor Veterans' Employment Report

ACTION: Notice.

SUMMARY: The Department of Labor (DOL) is submitting the Veterans' Employment and Training Service (VETS) sponsored information collection request (ICR) revision titled, “Federal Contractor Veterans' Employment Report,” to the Office of Management and Budget (OMB) for review and approval for use in accordance with the Paperwork Reduction Act (PRA) of 1995 (44 U.S.C. 3501 et seq.). Public comments on the ICR are invited.

DATES: The OMB will consider all written comments that agency receives on or before October 27, 2014.

ADDRESSES: A copy of this ICR with applicable supporting documentation; including a description of the likely respondents, proposed frequency of response, and estimated total burden may be obtained free of charge from the RegInfo.gov Web site at http://www.reginfo.gov/public/do/PRAViewICR?ref_nbr=201407-1293-001 (this link will only become active on the day following publication of this notice) or by contacting Michel Smyth by telephone at 202-693-4129, TTY 202-693-8064, (these are not toll-free numbers) or sending an email to DOL_PRA_PUBLIC@dol.gov.

Submit comments about this request by mail or courier to the Office of Information and Regulatory Affairs, Attn: OMB Desk Officer for DOL-VETS, Office of Management and Budget, Room 10235, 725 17th Street NW., Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION CONTACT: Michel Smyth by telephone at 202-693-4129, TTY 202-693-8064, (these are not toll-free numbers) or sending an email to DOL_PRA_PUBLIC@dol.gov.

Authority: 44 U.S.C. 3507(a)(1)(D).

SUPPLEMENTARY INFORMATION: This ICR seeks approval under the PRA for revisions to the Federal Contractor Veterans' Employment Report. The Vietnam Era Veterans' Readjustment Assistance Act of 1974, as amended, (VEVRAA), generally requires a covered Federal contractor or subcontractor to report annually on the total number of its employees who belong to the categories of VEVRAA protected veterans and the total number of those employees who were hired during the period covered by the report. This information collection has been classified as a revision, because a Final Rule published elsewhere today in the Federal Register rescinds regulatory provisions in 41 CFR part 61-250 that prescribe reporting requirements applicable to Government contracts and subcontracts entered into before December 1, 2003, and require contractors and subcontractors to the Federal Contractor Veterans' Employment Report VETS-100 (VETS-100 Report). The part 61-250 regulations are now obsolete, and maintaining the VETS-100 Report no longer has practical utility.

The Final Rule also revises the regulations in 41 CFR part 61-300 that prescribe the reporting requirements applicable to Government contracts and subcontracts of $100,000 or more entered into or modified after December 1, 2003. The part 61-300 regulations require contractors to use the Federal Contractor Veterans' Employment Report VETS-100A (VETS-100A Report) to provide information on veterans' employment. The Final Rule revises the manner in which Federal contractors report on their employment of protected veterans and renames the annual report required under the part 61-300 regulations the Federal Contractor Veterans' Employment Report VETS-4212 (VETS-4212). The new VETS-4212 Report reflects the new regulatory requirements. Contractors and subcontractors will have to comply with the reporting requirements in the Final Rule and use the VETS-4212 Report beginning with the annual report filed in 2015. Consequently, the ICR maintains the existing VETS-100A Report during the transition period. The DOL will submit a request to discontinue the VETS-100A Report once contractors begin using the new VETS-4212 Report. The VEVRAA authorizes this information collection. See 38 U.S.C. 4212.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1293-0005. The current approval is scheduled to expire on September 30, 2014; however, the DOL notes that existing information collection requirements submitted to the OMB receive a month-to-month extension while they undergo review. New requirements would only take effect upon OMB approval. For additional substantive information about the subject information collection requirements, see the related Final Rule published elsewhere in today's issue of the Federal Register.

Interested parties are encouraged to send comments to the OMB, Office of Information and Regulatory Affairs at the address shown in the ADDRESSES section within thirty (30) days of publication of this notice in the Federal Register. In order to help ensure appropriate consideration, comments should mention OMB Control Number 1293-0005. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-VETS.

Title of Collection: Federal Contractor Veterans' Employment Report.

OMB Control Number: 1393-0005.

Affected Public: Private Sector—businesses or other for-profits and not-for-profit institutions.

Total Estimated Number of Respondents: 15,000.

Total Estimated Number of Responses: 315,000.

Total Estimated Annual Time Burden: 164,350 hours.

Total Estimated Annual Other Costs Burden: $1,080.

Dated: September 18, 2014.
Michel Smyth,
Departmental Clearance Officer.

[FR Doc. 2014-22819 Filed 9-24-14; 8:45 am]

BILLING CODE 4510-79-P